FEDERAL MARITIME COMMISSION

Ocean Transportation Intermediary License Applicants

Notice is hereby given that the following applicants have filed with the Federal Maritime Commission an application for license as a Non-Vessel-Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel-Operating Common Carrier Ocean Transportation Intermediary Applicants

Maritime and Intermodal Logistics Systems, Inc., 821 Second Avenue, Suite 1100, Seattle, WA 98104, Officers: Junko Altman, General Manager, (Qualifying Individual), Aspi Rostami, President.

Alliance Navigation LLC, 500 North Broadway, Jericho Atrium, Ste. 233, Jericho, NY 11753, Officers: Roy I. Winograd, President, (Qualifying Individual), Erik Falkenberg, Director.

KBB Express Inc., 3380 Flair Drive, #235, El Monte, CA 91731, Officer: Katy Hungyi Lin, President, (Qualifying Individual).

Transpoint, LLC, 7051 W. Pierson Drive, Indianapolis, IN 46241, Officer: Russell C. Baker, Vice President, (Qualifying Individual).

Business Solutions Partner, Inc., 12493 Cliff Edge Drive, Herndon, VA 20170, Officers: Ernesto Hernandez, Vice President, (Qualifying Individual). Marina Komova, President,

Ice Express LLC dba Icexpress, 600 Bayview Avenue, Inwood, NY 11096, Officer: Kristin Isfeld, President, (Qualifying Individual).

Cruz World Shipping, 317 Brick Blvd., Brick, NJ 08723, Officer: Victor Cruz, President, (Qualifying Individual).

Non-Vessel-Operating Common Carrier and Ocean Freight Forwarder Transportation Intermediary Applicants

MP Freight System, Inc. dba MP Ocean Line, 7220 NW 36th Street, Suite 530, Miami, FL 33166, Officer: Paolo Mangia, President, (Qualifying Individual).

CJ Services International Corp., 8540 NW 66 Street, Miami, FL 33166, Officer: Carla Liliana Imach, President, (Qualifying Individual).

LSP Cargo, Inc., 8174 NW 31 Street, Doral, FL 33122, Officer: Pedro Ruddy Vargas, President, (Qualifying Individual).

Manila Forwarders Corporation, 8241-B Backlick Road, Lorton, VA 22079, Officers: Maria C.J. Castro, President, (Qualifying Individual). Crisanto J. Castro, Vice President

D & F Holdings (USA) Inc. dba DFHU Worldwide Shipping, 12511 Crenshaw Boulevard, Hawthorne, CA 90250. Officers: Emit Waite, Partner, (Qualifying Individual), Franklyn A. Egere, Partner.

Dated: February 24, 2006.
Bryant L. VanBrakle,
Secretary.

[FR Doc. E6-2894 Filed 2-28-06; 8:45 am]

BILLING CODE 6730-01-P